DEPARTMENT OF ENERGY

Federal Energy Regulatory Commission

[Docket No. EG03-24-000, et al.]

Global Common Greenport LLC, et al.; Electric Rate and Corporate Filings

December 6, 2002.

The following filings have been made with the Commission. The filings are listed in ascending order within each docket classification.

1. Global Common Greenport LLC

[Docket No. EG03-24-000]

Take notice that on November 27, 2002, Global Common Greenport LLC (Applicant), having its principal place of business at 1285 Avenue of the Americans, 35th Floor, New York, New York 10019 filed with the Federal Energy Regulatory Commission (Commission) an application for determination of exempt wholesale generator status pursuant to part 365 of the Commission's regulations.

Comment Date: December 27, 2002.

2. PSEG Power Connecticut LLC

[Docket No. EG03-25-000]

Take notice that on December 4, 2002, PSEG Power Connecticut LLC (Applicant), having its principal place of business at 80 Park Plaza, T-16, Newark, NJ 07102, filed with the Federal Energy Regulatory Commission (FERC or the Commission) an application for determination of exempt wholesale generator status pursuant to part 365 of the Commission's regulations.

The Applicant is a limited liability company formed under the laws of the State of Delaware. The Applicant states it will be exclusively engaged, directly or indirectly through an affiliate as defined in Section 2(a)(11)(B) of the Public Utility Holding Company Act of 1935 (PUHCA), in owning or owning and operating eligible electric facilities in Connecticut and participating in certain other activities incidental to such eligible electric facilities as authorized under PUHCA.

Comment Date: December 27, 2002.

3. Consolidated Hydro Southeast, Inc.

[Docket No. EG03-26-000]

Take notice that on December 5, 2002, Consolidated Hydro Southeast, Inc. (CHISE) filed with the Federal Energy Regulatory Commission (Commission) an Application for Determination of Exempt Wholesale Generator Status pursuant to part 365 of the Commission's regulations and Section 32 of the Public Utility Holding Company Act of 1935.

CHISE operates an eligible facility with a capacity of 80 megawatts, powered by two (2) hydroelectric turbine generators, which is located in Nicholas County, West Virginia.

Comment Date: December 27, 2002.

4. Gauley River Power Partners, L.P.

[Docket No. EG03-27-000]

Take notice that on December 5, 2002, Gauley River Power Partners, L.P. (GRPP) filed with the Federal Energy Regulatory Commission (Commission) an Application for Determination of Exempt Wholesale Generator Status pursuant to part 365 of the Commission's regulations and section 32 of the Public Utility Holding Company Act of 1935.

GRPP owns an eligible facility with a capacity of 80 megawatts, powered by two (2) hydroelectric turbine generators, which is located in Nicholas County, West Virginia.

5. Reliant Energy Hunterstown, LLC

[Docket No. ER01-3036-002]

Take notice that on December 4, 2002 Reliant Energy Hunterstown,LLC (Hunterstown) filed an amendment to its FERC Electric Tariff with the Federal Energy Regulatory Commission. The proposed amendment changes the effective date of the tariff.

Comment Date: December 26, 2002.

6. ISO New England Inc.

[Docket No. ER01-3086-003]

Take notice that on December 2, 2002, ISO New England Inc. submitted a compliance report on its Demand Response Program and the addition of new generation in New England in the above Docket.

Comment Date: December 23, 2002.

7. Keystone Energy Group, Inc.

[Docket No. ER02-2605-001]

Take note that on December 2, 2002, Keystone Energy Group, Inc.(Keystone) tendered for filing an amendment to an application filed on September 23, 2002 for acceptance of Keystone Rate Schedule FERC No. 1; the granting of certain blanket approvals, including the authority to sell electricity at market based rates; and waiver of certain Commission regulations.

Keystone intends to engage in wholesale electric power and energy purchases and sales as a marketer. Keystone is not in the business of generating or transmitting electric power.

Comment Date: December 23, 2002.

8. Reliant Energy Solutions West, LLC

[Docket No. ER03-81-001]

Take notice that on December 3, 2002 Reliant Energy Solutions West, LLC (RESW) filed an Amended FERC Electric Rate Schedule No. 1 in this docket. The Amended Rate Schedule deletes references to certain non-jurisdictional activities.

Comment Date: December 24, 2002.

9. Peaker LLC

[Docket No. ER03-191-000]

Take notice that on December 4, 2002, Peaker LLC submitted an amendment to its petition for order accepting market-based rate schedule for filing and granting waivers and blanket approvals.

Comment Date: December 26, 2002.

10. PJM Interconnection, L.L.C.

[Docket No. ER03-232-001]

Take notice that on December 3, 2002, PJM Interconnection,L.L.C. (PJM), amended its November 27, 2002 filing in the above-captioned proceeding to correct the page numbers on the amended sheets of the Amended and Restated Operating Agreement of PJM Interconnection, L.L.C. (Operating Agreement) that it filed on November 27, 2002 to incorporate Commission-approved PJM Economic Load Response Program into the Second Revised Operating Agreement. The Operating Agreement sheet preceding these sheets also was included to correct its page designation.

PJM requests an effective date of June 1, 2002, for the amended Operating Agreement sheets incorporating the PJM Economic Load Response Program into the Second Revised Operating Agreement. In addition, PJM states that no substantive changes were made to the Operating Agreement sheet preceding the PJM Economic Load Response Program sheets, and therefore, PJM requests an effective date of April 1, 2002, for the corrected sheet. PJM states that this is the current effective date of the original sheet.

Copies of this filing have been served on all PJM members and each state electric utility commission in the PJM region.

Comment Date: December 24, 2002.

11. South Carolina Electric & Gas Company

[Docket No. ER03-237-000]

Take notice that on December 2, 2002, South Carolina Electric &Gas Company (SCE&G) submitted for filing supplemental agreements between SCE&G and the Southeastern Power Administration (SEPA).

SCE&G requests an effective date of November 1, 2002 and, accordingly, SCE&G requests waiver of the Commission's notice requirements. Copies of this filing were served upon SEPA and the South Carolina Public Service Commission.

Comment Date: December 23, 2002.

12. New York Independent System Operator, Inc.

[Docket No. ER03-238-000]

Take notice that on December 2, 2002, the New York Independent System Operator, Inc. (NYISO) filed revisions to its Market Administration and Control Area Services Tariff to clarify the calculation of Day-Ahead Market balancing payments.

The NYISO has requested an effective date of January 31, 2003, for the proposed clarification. The NYISO has served a copy of this filing upon all parties that have executed Service Agreements under the NYISO Services Tariff or Open-Access Transmission Tariff and to the New York State Public Service Commission.

Comment Date: December 23, 2002.

13. Western Systems Power Pool, Inc.

[Docket No. ER03-239-000]

Take notice that on December 3, 2002, the Western Systems Power Pool, Inc. (WSPP) submitted changes to the WSPP Agreement intended to update or clarify certain commercial provisions of the Agreement. The WSPP seeks an effective date of February 1, 2003, for these changes.

Copies of the transmittal letter have been served on all state commissions within the United States. This filing also has been posted on the WSPP homepage (www.wspp.org) thereby providing notice to all WSPP members.

Comment Date: December 24, 2002.

14. Wisconsin Public Service Corporation

[Docket No. ER03-240-000]

Take notice that on December 3, 2002, Wisconsin Public Service Corporation (WPSC) tendered for filing an amendment to its February 22, 1993 Agreement with the City of Marshfield concerning the ownership and operation of combustion turbine generation. The amendment implements a revision to the capacity rating of the West Marinette Unit.

Wisconsin Public Service Requests waiver of the Commission's regulations to permit the amendment to become effective on January 1, 2003.

Comment Date: December 24, 2002.

15. Xcel Energy Services, Inc.

[Docket No. ER03-241-000]

Take notice that on December 3, 2002, Xcel Energy Services, Inc.(XES), on behalf of Southwestern Public Service Company (SPS), submitted for filing an Experimental Sales Rider between SPS and Lea County Electric Cooperative, Inc.; a First Amendment to Experimental Sales Rider between SPS and New Corp Resources, Inc.; and a First Amendment to Experimental Sales Rider between SPS and Roosevelt Electric Cooperative, Inc.

XES requests that these agreements become effective on October 1, 2002.

Comment Date: December 24, 2002.

16. American Electric Power Service Corporation

[Docket No. ER03-242-000]

Take notice that American Electric Power Service Corporation(AEPSC), on behalf of Appalachian Power Company, Columbus Southern Power Company, Indiana Michigan Power Company, Kentucky Power Company, Kingsport Power Company, Ohio Power Company and Wheeling Power Company (collectively AEP) on December 3, 2002, tendered for filing proposed changes to transmission service rates.

AEPSC requests that the proposed rates become effective in two steps, with effective dates no earlier than February 1, 2003 and May 1, 2003, respectively.

Copies of the filing were served upon the Indiana Utility Regulatory Commission, Kentucky Public Service Commission, Michigan Public Service Commission, Public Utilities Commission of Ohio, Public Service Commission of West Virginia, Tennessee Regulatory Authority, and Virginia State Corporation Commission. A copy of this transmittal letter was served upon AEP's transmission customers. AEP also has posted this filing on its Web site at http://oasis.buyaep.com/OASIS/AEP/Tariff.cfm, (under Open Access Transmission Tariff Supplemental Information). AEP's transmission customers and the public may obtain a complete copy of this filing from AEP's website. In addition, AEP will provide a complete copy of this filing, on paper or CD, to any customer that requests a copy.

Comment Date: December 24, 2002.

17. PJM Interconnection, L.L.C.

[Docket No. ER03-243-000]

Take notice that on December 3, 2002, PJM Interconnection,L.L.C. (PJM), submitted amendments to Schedule 2 of the PJM Open Access Transmission Tariff to include the annual and monthly revenue requirements for Reactive Supply and Voltage Control from Generation Sources Service for Sunbury Generation, L.L.C. (Sunbury) and Commonwealth Chesapeake Company, L.L.C. (Commonwealth Chesapeake) accepted by the Commission in Docket Nos. ER02-2362-000 and 001, and ER02-2520-000, respectively.

PJM requests an effective date of September 1, 2002 for the Third Revised Sheet No. 112A of the PJM Tariff which incorporates Sunbury's revenue requirement, and November 1, 2002 for the Fourth Revised Sheet No. 112A which incorporates Commonwealth Chesapeake's revenue requirement.

Copies of this filing have been served on all PJM members, including Sunbury and Commonwealth Chesapeake, and each state electric utility regulatory commission in the PJM region.

Comment Date: December 24, 2002.

18. Midwest Energy, Inc.

[Docket No. ES03-15-000]

Take notice that on December 3, 2002, Midwest Energy, Inc. submitted an application pursuant to section 204 of the Federal Power Act seeking authorization to issue up to and including $37,714,286 of long-term debt securities from the National Rural Utilities Cooperative Finance Corporation.

Midwest Energy, Inc. also requests a waiver of the Commission's competitive bidding and negotiated placement requirements at 18 CFR 34.2.

Comment Date: December 27, 2002.

19. Entergy Services, Inc.

[Docket Nos. OA96-158-005 and OA 97-657-002]

Take notice that on December 2, 2002, Entergy Services, Inc.(Entergy) on behalf of the Entergy Operating Companies, tendered for filing with the Federal Energy Regulatory Commission (Commission) revisions to Entergy's FERC Electric Tariff, Second Revised Volume No. 3 in compliance with Entergy Services, Inc., 101 FERC ¶ 61,141 (2002). Entergy states that, in this order, the Federal Energy Regulatory Commission (Commission) accepted for filing, as modified, Entergy's May 1, 2000 compliance filing to a Commission order requesting certain public utilities to file status reports regarding their various open access dockets. Entergy notes that the Commission also ordered Entergy to correct certain misstatements found in Schedule No. 1 of Entergy's Open Access Transmission Tariff (OATT). Entergy states that this filing submits these accepted (and modified) revisions in Order No. 614 format.

Comment Date: January 2, 2003.

Standard Paragraph

Any person desiring to intervene or to protest this filing should file with the Federal Energy Regulatory Commission, 888 First Street,NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 02-31387 Filed 12-11-02; 8:45 am]

BILLING CODE 6717-01-P